DEPARTMENT OF LABOR

Office of the Secretary

Submission for OMB Review: Comment Request

February 9, 2009.

The Department of Labor (DOL) hereby announces the submission of the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: OMB Desk Officer for the Mine Safety and Health Administration (MSHA), Office of Management and Budget, 725 17th Street, NW., Room 10235, Washington, DC 20503, Telephone: 202-395-4816/Fax: 202-395-6974 (these are not toll-free numbers), e-mail: OIRA_submission@omb.eop.gov within 30 days from the date of this publication in the Federal Register. In order to ensure the appropriate consideration, comments should reference the applicable OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension without change of currently approved collection.

Title of Collection: Record of Mine Closures, Opening and Reopening of Mines.

OMB Control Number: 1219-0073.

Form Number: None.

Estimated Number of Respondents: 1,453.

Estimated Total Annual Burden Hours: 14,572.

Estimated Total Annual Cost Burden: $18,221,257.

Affected Public: Business or other for profits (underground and surface coal mines).

Description: The Department's regulations at 30 CFR 75.372, 75.373, 75.1200, 75.1200-1, 75.1201, 75.1202, 75.1202-1, 75.1203, 75.1204, 75.1204-1, 75.1721, 77.1200, 77.1201, 77.1202 contain requirements regarding the preparation and maintenance of accurate and up-to-date mine maps as well as requirements with respect to reporting to MSHA the opening or closing of mines. The information is used by operators of coal mines for effective and safe mine planning and when approaching abandoned underground mines or the mined-out and inaccessible areas of an active underground or surface mine. The abandoned mine or inaccessible areas of an active mine could be flooded with water or contain explosive amounts of methane or harmful gases. If the operator were to mine into such an area, unaware of the hazards, miners could be killed or seriously injured. The requirements to provide MSHA with certified underground mine maps annually, access for inspection of surface mine maps and the filing of mine closure maps provide essential information for MSHA to plan and conduct mandatory inspections and review and approve mandatory mine plans and permits. The required notifications prior to opening new mines and reopening abandoned mines provide information for the same purpose. Accurate and up-to-date mine maps are essential to the engineering plans and safe operation of mines and to the health and safety of the miners, including in mine rescue and/or firefighting situations. In addition, the mine closure maps also provide information essential to protecting public safety in the future land uses of the abandoned mine sites. For additional information, see related notice published at Vol. 73 FR 64985 on October 31, 2008.

Agency: Mine Safety and Health Administration.

Type of Review: Extension without change of currently approved collection.

Title of Collection: Approval, Exhaust Gas Monitoring, and Safety Requirements for the Use of Diesel-Powered Equipment in Underground Coal Mines.

OMB Control Number: 1219-0119.

Form Number: None.

Estimated Number of Respondents: 213.

Estimated Total Annual Burden Hours: 42,825.

Estimated Total Annual Cost Burden: $428,272.

Affected Public: Business or other for profits (underground coal mines).

Description: The information collection requirements contained in the Department's standards at 30 CFR Part 75, Safety Requirements for the Use of Diesel-Powered Equipment in Underground Coal Mines, serve to protect miners' health. The records are required to document that essential testing and maintenance of the equipment is done regularly and by qualified persons. The recordkeeping requirements are necessary not only to assist MSHA in determining compliance, but also to provide useful information to mine operators and miners' representatives about the performance of diesel engines and any deterioration or defective condition needing corrective action. For additional information, see related notice published at Vol. 73 FR 64986 on October 31, 2008.

Darrin A. King,
Departmental Clearance Officer.

[FR Doc. E9-3065 Filed 2-12-09; 8:45 am]

BILLING CODE 4510-43-P